DEPARTMENT OF THE INTERIOR

National Park Service

National Register of Historic Places; Notification of Pending Nominations and Related Actions

Nominations for the following properties being considered for listing or related actions in the National Register were received by the National Park Service before August 7, 2010. Pursuant to § 60.13 of 36 CFR part 60, written comments are being accepted concerning the significance of the nominated properties under the National Register criteria for evaluation. Comments may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by September 16, 2010.

Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

CALIFORNIA

Alameda County

Iceland, 2727 Milvia St, Berkley, 10000769

Los Angeles County

Bungalow Court at 1516 N. Serrano Ave, 1516-1528½ N. Serrano Ave, Los Angeles, 10000761

Bungalow Court at 1544 N. Serrano Avenue, 1544-1552 N. Serrano Ave, Los Angeles, 10000764

Bungalow Court at 1554 N. Serrano Avenue, 1554-1576 N. Serrano Ave, Los Angeles, 10000762

Bungalow Court at 1721 N. Kinglsey Drive, 1721-1729½ N. Kinglsey Dr, Los Angeles, 10000763

DISTRICT OF COLUMBIA

District of Columbia

Morris Residence, 4001 Linnean Ave, Washington, 10000750

FLORIDA

St. Johns County

Fullerwood Park Residential Historic District, Roughly bounded by San Marcos, Macaris, Hildreth & Hospital Creek, Saint Augustine, 10000767

Volusia County

Three Chimneys Archaeological Site, 715 W. Granada Blvd, Ormond Beach, 10000757

ILLINOIS

McDonough County

Lamoine Hotel, 201 N. Randolph St, Macomb, 10000760

MASSACHUSETTS

Barnstable County

Town Hall Square Historic District Boundary Increase, roughly bounded by MA Rte 6A, Morse Rd, Water St, Shawme Lake, Grove St, Main St, and Tupper Rd., Sandwich, 10000752

Worcester County

Stevens Linen Works Historic District, 8-10 Mill St, 2 W. Main St, 2 Curfew Ln, Ardlock Pl, Dudley, 10000751

MISSOURI

St. Louis Independent City

St. Louis News Company, 1008-1010 Locust St, St. Louis, 10000755

MONTANA

Missoula County

Missoula County Fairgrounds Historic District, 1101 S. Ave W, Missoula, 10000765

MONTANA

Yellowstone County

Billings Old Town Historic District, Generally bounded by Montana Ave on the N; S 26th on the E; 1st Ave S on the S; and S. 30th St on the W, Billings, 10000753

Laurel Downtown Historic District, Roughly bounded by the Burlington Northern Santa Fe Railway Company tracks to the S, Third S. to the N, Wyoming Ave, Laurel, 10000768

NEBRASKA

Douglas County

Neef, Henry B., House, 2884 Iowa St, Omaha, 10000758

Wohlner's Neighborhood Grocery, 5203 Leavenworth St, Omaha, 10000759

NORTH CAROLINA

Henderson County

Singletary—Reese—Robinson House, 211 Robinson Ln, Laurel Park, 10000754

OHIO

Hamilton County

Fairview Public School Annex, 255 Warner St and 2232 Stratford Ave, Cincinnati, 10000756

RHODE ISLAND

Kent County

Anthony Village Historic District, Washington St between Battey St and Hazard St and various properties on 12 adjacent Sts and the Pawtuxet River, Coventry, 10000770

VERMONT

Windham County

Mechanicsville Historic District, Rte 121 E, Grafton, 10000766

[FR Doc. 2010-21771 Filed 8-31-10; 8:45 am]

BILLING CODE P